DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps.

Dates and Times: July 10, 2003, 5 p.m.-7 p.m.; July 11, 2003, 8:30 a.m.-5 p.m.; July 12, 2003, 9 a.m.-5:30 p.m.; July 13, 2003, 8 a.m.-10:30 a.m.

Place: Washington Terrace Hotel, 1515 Rhode Island Avenue, NW., Washington, DC 20005, (202) 232-7000.

Status: The meeting will be open to the public.

Agenda: The agenda will focus on meeting with Agency management to determine the desired areas of recommendations for the Council to address in the upcoming year. The Council will also review the new National Health Service Corps Legislation to discuss possible areas of recommendations. Agenda items and times are subject to change as priorities dictate.

FOR FURTHER INFORMATION CONTACT: Tira Robinson, Division of National Health Service Corps, Bureau of Health Professions, Health Resources and Services Administration, Parklawn Building, Room 8A-55, 5600 Fishers Lane, Rockville, Maryland 20857, telephone (301) 594-4140.

Dated: June 9, 2003.
Jane M. Harrison,
Director, Division of Policy Review and Coordination.

[FR Doc. 03-15104 Filed 6-13-03; 8:45 am]

BILLING CODE 4165-15-P